DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of five individuals whose property and interests in property have been unblocked pursuant to Executive Order 12978 of October 21, 1995, Blocking Assets and Prohibiting Transactions With Significant Narcotics Traffickers.

DATES: The unblocking and removal from the list of Specially Designated Nationals and Blocked Persons (“SDN list”) of the five individuals identified in this notice whose property and interests in property were blocked pursuant to Executive Order 12978 of October 21, 1995, is effective on June 10, 2010.

FOR FURTHER INFORMATION CONTACT: Assistant Director, Compliance Outreach & Implementation, U.S. Department of the Treasury, Office of Foreign Assets Control, Washington, DC 20220, tel.: (202) 622-2490.

SUPPLEMENTARY INFORMATION:

Electronic and Facsimile Availability

This document and additional information concerning OFAC are available from OFAC's Web site (http://www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On June 10, 2010, OFAC removed from the SDN list the five individuals listed below, whose property and interests in property were blocked pursuant to the Order:

1. BUENO GUERRERO, Alfonso, c/o APOYOS DIAGNOSTICOS S.A., Tulua, Valle, Colombia; c/o CLINICA SAN FRANCISCO S.A., Tulua, Valle, Colombia; Carrera 52 No. 33-84, Tulua, Valle, Colombia; Carrera 45 No. 4A-10, Cali, Colombia; DOB 17 Sep 1941; POB Tulua, Valle, Colombia; citizen Colombia; nationality Colombia; Cedula No. 17056503 (Colombia) (individual) [SDNT]

2. GAVIRIA RUEDA, Gloria Ines (a.k.a. GAVIRIA DE INDABURU, Gloria Ines), c/o COMERCIALIZADORA MOR GAVIRIA S.A., Quito, Ecuador; c/o INTERNACIONAL DE PROYECTOS INMOBILIARIOS S.A., Quito, Ecuador; POB Colombia; Cedula No. 41576358 (Colombia); alt. Cedula No. 1719011601 (Ecuador); RUC # 1233779 (Ecuador) (individual) [SDNT]

3. INDABURU LUENGAS, Pedro Enrique, c/o COMERCIALIZADORA MOR GAVIRIA S.A., Quito, Ecuador; c/o COMERCIALIZADORA MORDUR S.A., Quito, Ecuador; c/o INTERNACIONAL DE PROYECTOS INMOBILIARIOS S.A., Quito, Ecuador; DOB 29 Jun 1948; POB Bogota, Colombia; Cedula No. 19074171 (Colombia); alt. Cedula No. 1719011619 (Ecuador); RUC # 171901161-9 (Ecuador) (individual) [SDNT]

4. OLIVEROS GUZMAN, Henry, c/o PARQUE ECOLOGICO RECREACIONAL DE LAS AGUAS DE GIRARDOT LIMITADA, Girardot, Colombia; c/o INVERSIONES MPS S.A., Bogota, Colombia; c/o MAYOR COMERCIALIZADORA LTDA., Bogota, Colombia; c/o MOR ALFOMBRAS ALFOFIQUE S.A., Bogota, Colombia; c/o GERENCIA DE PROYECTOS Y SOLUCIONES LTDA., Bogota, Colombia; c/o HOTEL LA CASCADA S.A., Girardot, Colombia; POB Colombia; Cedula No. 79484051 (Colombia) (individual) [SDNT]

5. ROJAS VARGAS, Alberto, c/o COLFARMA PERU S.A., Lima, Peru; c/o ESPIBENA S.A., Quito, Ecuador; c/o FARFALLA INVESTMENT S.A., Panama City, Panama; Cedula No. 13922413 (Colombia) (individual) [SDNT]

Dated: June 10, 2010.
Adam J. Szubin,
Director, Office of Foreign Assets Control.

[FR Doc. 2010-14500 Filed 6-15-10; 8:45 am]

BILLING CODE 4810-AL-P